DEPARTMENT OF AGRICULTURE

Animal and Plant Health Inspection Service

[Docket No. APHIS-2007-0120]

Notice of Request for Approval of an Information Collection; Enforcement Operations Survey

AGENCY: Animal and Plant Health Inspection Service, USDA.

ACTION: New information collection; comment request.

SUMMARY: In accordance with the Paperwork Reduction Act of 1995, this notice announces the Animal and Plant Health Inspection Service's intention to initiate a new information collection for a survey by APHIS' Investigative and Enforcement Services unit.

DATES: We will consider all comments that we receive on or before December 8, 2008.

ADDRESSES: You may submit comments by either of the following methods:

• Federal eRulemaking Portal: Go to http://www.regulations.gov/fdmspublic/component/main?main=DocketDetail&d=APHIS-2007-0120 to submit or view comments and to view supporting and related materials available electronically.

• Postal Mail/Commercial Delivery: Please send two copies of your comment to Docket No. APHIS-2007-0120, Regulatory Analysis and Development, PPD, APHIS, Station 3A-03.8, 4700 River Road Unit 118, Riverdale, MD 20737-1238. Please state that your comment refers to Docket No. APHIS-2007-0120.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the survey, contact

Dr. Allison Khroustalev, Chief, Enforcement Operations Branch, Investigative and Enforcement Services, MRPBS, APHIS, 4700 River Road Unit 85, Riverdale, MD 20737; (301) 734-0624. For copies of more detailed information on the information collection, contact Mrs. Celeste Sickles, APHIS' Information Collection Coordinator, at (301) 851-2908.

SUPPLEMENTARY INFORMATION: Title: Enforcement Operations Survey.

OMB Number: 0579-XXXX.

Type of Request: Approval of a new information collection.

Abstract: The primary mission of the Animal and Plant Health Inspection Service (APHIS), U.S. Department of Agriculture, is to protect American agriculture. To carry out its mission, APHIS administers regulations under the Plant Protection Act and Animal Health Protection Act that govern the importation, entry, exportation, and movement in interstate commerce of certain animals, plants and their products to prevent the introduction and spread of exotic pests and diseases into and within the United States. APHIS also administers regulations under the Animal Welfare Act to ensure the humane handling, care, treatment, and transportation of animals covered by the Act; the Horse Protection Act to prohibit the exhibition, sale, transport across State lines, show, or auction of horses subjected to soring; and the Agricultural Bioterrorism Protection Act to regulate the possession, use, or transfer of biological agents and toxins that present a serious threat to animal or plant health.

The Investigative and Enforcement Services (IES) unit of APHIS helps ensure compliance with the regulations. IES does this by conducting investigations and taking enforcement actions when necessary. Enforcement actions initiated by IES' Enforcement Operations Branch (EOB) include the issuance of warning letters and the assessment of stipulated civil penalties. These activities involve communications with persons alleged to have violated agency regulations. IES also conducts education programs to help those subject to Agency regulations understand the regulations and how to comply with them.

The EOB's management systems have been certified by the International Organization of Standardization (ISO, a nongovernmental worldwide network of national standards institutes). Such certification recognizes the EOB for, among other things, meeting certain performance standards and continuously striving to improve its performance. As part of the process for maintaining certification, the EOB must conduct research into the effectiveness of its program and its communications with regulated entities and persons. The EOB plans to do this, in part, by conducting a telephone survey of a sample of persons who have been subject to IES-initiated enforcement actions.

Responders will be asked to rate their experience and interaction with EOB with regard to such things as the clarity of the information in EOB written communications, the timeliness of EOB responses to telephone messages and letters, and the knowledge, professionalism, and helpfulness of the EOB staff who dealt with the responder.

IES will use the information from the survey to improve communications with alleged violators, as well as to maintain ISO certification.

We are asking the Office of Management and Budget (OMB) to approve this information collection for 1 year.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.25 hours per response.

Respondents: The violators for every 10th case closed, not sent to the Office of the Inspector General, USDA.

Estimated annual number of respondents: 175.

Estimated annual number of responses per respondent: 1.

Estimated annual number of responses: 175.

Estimated total annual burden on respondents: 43.75 hours. (Due to averaging, the total annual burden hours may not equal the product of the annual number of responses multiplied by the reporting burden per response.)

All responses to this notice will be summarized and included in the request for OMB approval. All comments will also become a matter of public record.

Done in Washington, DC, this 1st day of October 2008.
Kevin Shea,
Acting Administrator, Animal and Plant Health Inspection Service.

[FR Doc. E8-23702 Filed 10-6-08; 8:45 am]

BILLING CODE 3410-34-P